FEDERAL COMMUNICATIONS COMMISSION

47 CFR Part 73

[DA 02-1813; MM Docket No. 99-196; RM-9619, RM-9874]

Radio Broadcasting Services; Bethel Springs, Martin, Tiptonville, Trenton, and South Fulton, TN

AGENCY: Federal Communications Commission.

ACTION: Final rule, petition for reconsideration.

SUMMARY: This document grants a petition for reconsideration filed by Thunderbolt Broadcasting Company, licensee of Station WCMT-FM, Channel 269A, Martin, TN, and grants Option I of its counterproposal that had been denied in the Report and Order in this proceeding. See 66 FR 63653, published December 10, 2001. The document reasons that the public interest benefits of upgrading and reallotting Station WCMT-FM to South Fulton, TN, outweigh downgrading vacant Channel 267C3 at Tiptonville, TN, to Channel 247A because a first local service will be provided to South Fulton. The reference coordinates for Channel 267C3 at South Fulton, TN, are 36-26-27 and 88-58-00. The reference coordinates for Channel 247A at Tiptonville, TN, are 36-22-42 and 89-23-18. To accommodate the South Fulton allotment, this document also substituted Channel 249C3 for Channel 248C3 at Trenton, TN, and modified the license for Station WTNE-FM, Trenton, to specify operation on Channel 249C3. The reference coordinates for Channel 249C3 at Trenton are 36-05-10 and 88-54-39.

DATES: Effective September 16, 2002.

FOR FURTHER INFORMATION CONTACT: Andrew J. Rhodes, Media Bureau, (202) 418-2180.

SUPPLEMENTARY INFORMATION: This is a synopsis of the Commission's Memorandum Opinion and Order in MM Docket No. 99-196, adopted July 17, 2002, and released August 2, 2002. The full text of this decision is available for inspection and copying during normal business hours in the FCC's Reference Information Center at Portals II, CY-A257, 445 12th Street, SW, Washington, DC. The complete text of this decision may also be purchased from the Commission's copy contractor, Qualex International, Portals ll, 445 12th Street, SW, Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under Tennessee, is amended by removing Martin, Channel 269A, by adding South Fulton, Channel 267C3, and by removing Channel 267C3 and adding Channel 247A at Tiptonville.

Federal Communications Commission.
John A. Karousos,
Assistant Chief, Audio Division, Media Bureau.

[FR Doc. 02-20589 Filed 8-13-02; 8:45 am]

BILLING CODE 6712-01-P